DEPARTMENT OF ENERGY

Federal Energy Regulatory Commission

[Docket No. IC19-18-000]

Commission Information Collection Activities (Ferc-740); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-740 (Availability of E-Tag Information to Commission Staff).

DATES: Comments on the collection of information are due by May 21, 2019.

ADDRESSES: You may submit comments (identified by Docket No. IC19-18-000) by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-740, Availability of E-Tag Information to Commission Staff.

OMB Control No.: 1902-0254.

Type of Request: Three-year extension of the FERC-740 information collection requirements with no changes to the current reporting requirements.

Abstract: In Order 771,¹ the FERC-740 information collection (providing Commission staff access to e-Tag data) was implemented to provide the Commission, Market Monitoring Units, Regional Transmission Organizations, and Independent System Operators with information that allows them to perform market surveillance and analysis more effectively. The e-Tag information is necessary to understand the use of the interconnected electricity grid, particularly transactions occurring at interchanges. Due to the nature of the electric grid, an individual transaction's impact on an interchange cannot be assessed adequately in all cases without information from all connected systems, which is included in the e-Tags. The details of the physical path of a transaction included in the e-Tags helps the Commission to monitor, in particular, interchange transactions more effectively, detect and prevent price manipulation over interchanges, and improve the efficient and orderly use of the transmission grid. For example, the e-Tag data allows the Commission to identify transmission reservations as they go from one market to another and link the market participants involved in that transaction.

¹ Order 771 was issued in Docket No. RM11-12 (77 FR 76367, 12/28/2012).

Order No. 771 provided the Commission access to e-Tags by requiring that Purchasing-Selling Entities ² (PSEs) and Balancing Authorities (BAs), list the Commission on the “CC” list of e-Tags so that the Commission can receive a copy of the e-Tags (the “'CC' list requirement”). The Commission accesses the e-Tags by contracting with a commercial vendor, OATI.

² A Purchasing-Selling Entity is the entity that purchases or sells, and takes title to, energy, capacity, and Interconnected Operations Services. Purchasing-Selling Entities may be affiliated or unaffiliated merchants and may or may not own generating facilities. Purchasing-Selling Entities are typically E-Tag Authors.

In early 2014, the North American Energy Standards Board (NAESB) incorporated the “CC” list requirement on e-Tags as part of the tagging process.³ Even before NAESB added the FERC requirement to the tagging standards, the “CC” list requirement had already been programmed into the industry standard tagging software so as to make the inclusion of FERC in the “CC” list automatic, where appropriate.

³ NAESB Electronic Tagging Functional Specifications, Version 1.8.2.

The Commission expects that PSEs and BAs will continue to use existing, automated procedures to create and validate the e-Tags in a way that provides the Commission with access to them. In the rare event that a new BA would need to alert e-Tag administrators that certain tags it generates qualify for exemption under the Commission's regulations (e.g., transmissions from a new non-U.S. BA into another non-U.S. BA using a path that does not go through a U.S. BA), this administrative function would be expected to require less than an hour of effort total from both the BA and an e-Tag administrator to include the BA on the exemption list. New exempt BAs occur less frequently than every year, but for the purpose of estimation we will conservatively assume one appears each year creating an additional burden and cost associated with the Commission's FERC-740 of one hour and $65.68.⁴

⁴ The estimated hourly cost (wages plus benefits) provided in this section is based on the figures for May 2017 posted by the Bureau of Labor Statistics for the Utilities sector (available at https://www.bls.gov/oes/current/naics2_22.htm), assuming:

15 minutes legal (code 23-0000), at $143.68/hour

45 minutes information and record clerk (code 43-4199), at $39.68/hour.

Type of Respondents: Purchasing-Selling Entities and Balancing Authorities.

Estimate of Annual Burden: ⁵ The Commission estimates the burden and cost for FERC-740 as follows based on the distinct e-Tags submitted to the Commission in 2017 (the most recent full year available).

⁵ “Burden” is the total time, effort, or financial resources expended by persons to generate, maintain, retain, or disclose or provide information to or for a Federal agency. For further explanation of what is included in the information collection burden, refer to Title 5 Code of Federal Regulations Part 1320.

FERC-740 | Number of respondents | Annual number of responses per respondent | Total number of responses | Average burden hours & cost per response | Total annual burden hours & total annual cost | Cost per respondent ($)
| (1) | (2) | (1) * (2) = (3) | (4) | (3) * (4) = (5) | (5) ÷ (1)
Purchasing-Selling Entities (e-Tag Authors) | 355 | 4,482 (rounded) | 1,591,208 | Automatic, so 0 burden and cost | Automatic, so 0 burden and cost | Automatic, so 0 burden and cost.
Balancing Authorities | 81 | 19,645 (rounded) | 1,591,208 | Automatic, so 0 burden and cost | Automatic, so 0 burden and cost | Automatic, so 0 burden and cost.
New Balancing Authority [as noted above] | 1 | 1 | 1 | 1 hr.; $65.68 | 1 hr.; $65.68 | $65.68.
Total |  |  |  |  | 1 hr.; $65.68 | $65.68.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: March 18, 2019.
Kimberly D. Bose,
Secretary.

[FR Doc. 2019-05494 Filed 3-21-19; 8:45 am]

BILLING CODE 6717-01-P